DEPARTMENT OF HEALTH AND HUMAN SERVICES

Food and Drug Administration

[FDA 225-02-8000]

Memorandum of Understanding Between the Food and Drug Administration and Johns Hopkins University

AGENCY: Food and Drug Administration, HHS.

ACTION: Notice.

SUMMARY: The Food and Drug Administration (FDA) is providing notice of a Memorandum of Understanding (MOU) between FDA and Johns Hopkins University. The purpose of the MOU is to develop collaboration in the areas of education, research, and outreach.

DATES: The agreement became effective April 30, 2002.

FOR FURTHER INFORMATION CONTACT: Peter Pitts, Office of External Relations, Food and Drug Administration, 5600 Fishers Lane, Rockville, MD 20857, 301-827-3330.

SUPPLEMENTARY INFORMATION: In accordance with 21 CFR 20.108 (c), which states that all written agreements and MOUs between FDA and others shall be published in the Federal Register, the agency is publishing notice of this MOU.

Dated: November 24, 2003.
Jeffrey Shuren,
Assistant Commissioner for Policy.

BILLING CODE 4160-01-S

[FR Doc. 03-30026 Filed 12-2-03; 8:45 am]

BILLING CODE 4160-01-C